DEPARTMENT OF ENERGY

Federal Energy Regulatory Commission

Combined Notice of Filings #1

Take notice that the Commission received the following electric rate filings:

Docket Numbers: ER14-1711-002.

Applicants: TC Ravenswood, LLC.

Description: Oil Burn Rate Schedule to be effective 6/24/2014.

Filed Date: 6/24/14.

Accession Number: 20140624-5081.

Comments Due: 5 p.m. ET 7/7/14.

Docket Numbers: ER14-1822-001.

Applicants: New York Independent System Operator, Inc.

Description: Amendment of NYISO TCR MOB Agreement to restart 60 day clock to be effective 5/1/2014.

Filed Date: 6/24/14.

Accession Number: 20140624-5085.

Comments Due: 5 p.m. ET 7/7/14.

Docket Numbers: ER14-2258-000.

Applicants: Desert View Power LLC.

Description: Notice of Succession to be effective 6/25/2014.

Filed Date: 6/24/14.

Accession Number: 20140624-5100.

Comments Due: 5 p.m. ET 7/15/14.

Docket Numbers: ER14-2259-000.

Applicants: Desert View Power LLC.

Description: Notice of Succession and Order No. 784 Compliance Filing to be effective 6/25/2014.

Filed Date: 6/24/14.

Accession Number: 20140624-5101.

Comments Due: 5 p.m. ET 7/15/14.

Docket Numbers: ER14-2260-000.

Applicants: Eel River Power LLC.

Description: Revised Market Based Tariff Filing to be effective 6/25/2014.

Filed Date: 6/24/14.

Accession Number: 20140624-5102.

Comments Due: 5 p.m. ET 7/15/14.

Docket Numbers: ER14-2261-000.

Applicants: Southern California Edison Company.

Description: GIA and Distribution Service Agmt with SunEdison for Cherry Ave. Fontana Project to be effective 6/26/2014.

Filed Date: 6/25/14.

Accession Number: 20140625-5000.

Comments Due: 5 p.m. ET 7/16/14.

Docket Numbers: ER14-2262-000.

Applicants: Edgewood Energy, LLC, Shoreham Energy, LLC, Equus Power I, L.P., Pinelawn Power, LLC.

Description: J-POWER Triennial MBR Update in Docket Nos. ER10-3058, 3059, 3066, and 3065 to be effective 6/25/2014.

Filed Date: 6/25/14.

Accession Number: 20140625-5021.

Comments Due: 5 p.m. ET 8/25/14.

Docket Numbers: ER14-2263-000.

Applicants: Pinelawn Power, LLC, Equus Power I, L.P., Edgewood Energy, LLC, Shoreham Energy, LLC.

Description: J-POWER Triennial MBR Update in Docket Nos. ER10-3058, 3059, 3066, and 3065 to be effective 6/25/2014.

Filed Date: 6/25/14.

Accession Number: 20140625-5022.

Comments Due: 5 p.m. ET 8/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2014.
Nathaniel J. Davis, Sr.,
Deputy Secretary.

[FR Doc. 2014-15633 Filed 7-2-14; 8:45 am]

BILLING CODE 6717-01-P